DEPARTMENT OF TRANSPORTATION

Federal Aviation Administration

Ninety Seventh Plenary for RTCA SC-159 Navigation Equipment Using the Global Positioning System

AGENCY: Federal Aviation Administration (FAA), U.S. Department of Transportation (DOT).

ACTION: Ninety Seventh Plenary for RTCA SC-159 Navigation Equipment Using the Global Positioning System.

SUMMARY: The FAA is issuing this notice to advise the public of a meeting of Ninety Seventh Plenary for RTCA SC-159 Navigation Equipment Using the Global Positioning System.

DATES: The meeting will be held December 13, 2016 10:30 a.m.-12:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Ninety Seventh RTCA SC-159 Navigation Equipment Using the Global Positioning System. The agenda will include the following:

Tuesday, December 13, 2016, 10:30 a.m.-12:00 p.m.

1. Introductory Remarks: DFO, RTCA and Chairman

2. Presentation by WG-6 of comments on the Ligado Proposal dated August 30, 2016 with discussion for review and approval by SC-159

3. Other Business

4. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 15, 2016.
Mohannad Dawoud,
Management & Program Analyst, Partnership Contracts Branch, ANG-A17, NextGen, Procurement Services Division, Federal Aviation Administration.

[FR Doc. 2016-27796 Filed 11-17-16; 8:45 am]

BILLING CODE 4910-13-P